DEPARTMENT OF STATE

[Public Notice 5954]

Determination and Certification Under Section 599E of the Foreign Operations, Export Financing, and Related Programs Appropriations Act, 2006 (Pub. L. 109-102), as Carried Forward by the Revised Continuing Appropriations Resolution, 2007 (Pub. L. 110-5)

Pursuant to the authority vested in me as Secretary of State, including under section 559E of the Foreign Operations, Export Financing, and Related Programs Appropriations Act, 2006 (Pub. L. 109-102), as carried forward by the Revised Continuing Appropriations Resolution, 2007 (Pub. L. 110-5), I hereby determine and certify that:

(1) Assistance for the fiscal year will be provided only for individuals who have (A) verifiably renounced and terminated any affiliation or involvement with FTOs or other illegal armed groups; and (B) are meeting all the requirements of the Colombian Demobilization Program, including having disclosed their involvement in past crimes and their knowledge of the FTO's structure, financing sources, illegal assets, and the location of kidnapping victims and bodies of the disappeared;

(2) the Government of Colombia is providing full cooperation to the Government of the United States to extradite the leaders and members of the FTOs who have been indicted in the United States for murder, kidnapping, narcotics trafficking, and other violations of United States law;

(3) the Government of Colombia is implementing a concrete and workable framework for dismantling the organizational structures of foreign terrorist organizations; and

(4) funds shall not be made available as cash payments to individuals and are available only for activities under the following categories: Verification, reintegration (including training and education), vetting, recovery of assets for reparations for victims, and investigations and prosecutions.

This Determination shall be published in the Federal Register and copies shall be transmitted to the appropriate committees of Congress.

Dated: September 28, 2007.
Condoleezza Rice,
Secretary of State, Department of State.

[FR Doc. E7-19955 Filed 10-9-07; 8:45 am]

BILLING CODE 4710-29-P